DEPARTMENT OF COMMERCE

International Trade Administration

[A-403-801]

Final Results of Expedited Sunset Review: Fresh and Chilled Atlantic Salmon From Norway

AGENCY: Import Administration, International Trade Administration, Department of Commerce.

ACTION: Notice of Final Results of Expedited Sunset Review: Fresh and Chilled Atlantic Salmon from Norway.

SUMMARY: On July 1, 1999, the Department of Commerce (“the Department“) initiated a sunset review of the antidumping duty order on fresh and chilled Atlantic salmon from Norway (64 FR 35588) pursuant to section 751(c) of the Tariff Act of 1930, as amended (“the Act”). On the basis of a notice of intent to participate and adequate substantive comments filed on behalf of domestic interested parties, and inadequate response (in this case, no response) from respondent interested parties, the Department determined to conduct an expedited (120 day) review. As a result of this review, the Department finds that revocation of the antidumping duty order would be likely to lead to continuation or recurrence of dumping at the levels indicated in the Final Results of Review section of this notice.

FOR FURTHER INFORMATION CONTACT: Kathryn B. McCormick or Melissa G. Skinner, Office of Policy for Import Administration, International Trade Administration, U.S. Department of Commerce, 14th Street and Constitution Avenue, NW, Washington, D.C. 20230; telephone: (202) 482-1930 or (202) 482-1560, respectively.

EFFECTIVE DATE: February 4, 2000.

Statute and Regulations

This review was conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”), and in 19 CFR Part 351 (1999) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Scope

The product covered by this order is the species Atlantic salmon (Salmon Salar) marketed as specified herein; the order excludes all other species of salmon: Danube salmon, Chinook (also called “king” or “quinnat”), Coho (“silver”), Sockeye (“redfish” or “blueback”), Humpback (“pink”) and Chum (“dog”). Atlantic salmon is a whole or nearly-whole fish, typically (but not necessarily) marketed gutted, and cleaned, with the head on. The subject merchandise is typically packed in fresh-water ice (“chilled”). Excluded from the subject merchandise are fillets, steaks and other cuts of Atlantic salmon. Also excluded are frozen, canned, smoked or otherwise processed Atlantic salmon. Atlantic salmon was classifiable under item number 110.2045 of the Tariff Schedules of the United States Annotated (“TSUSA”). Prior to January 1, 1990, Atlantic salmon was provided for under item numbers 0302.0060.8 and 0302.12.0065.3 of the Harmonized Tariff Schedule of the United States (“HTSUS”) (56 FR 7678, February 25, 1991). Currently, it is provided for under HTSUS item number 0302.12.00.02.09. The subheadings above are provided for convenience and customs purposes. The written description remains dispositive.

There have been no scope rulings for the subject order. There was one changed circumstances determination in which the Department affirmed that Kinn Salmon AS was the successor-in-interest to Skaarfish Group A/S.¹

¹ See Fresh and Chilled Atlantic Salmon From Norway; Final Results of Changed Circumstance Antidumping Duty Administrative Review, 64 FR 9979 (March 1, 1999).

History of the Order

In the February 25, 1991, final determination in the antidumping duty investigation, covering the period September 1, 1989, through February 28, 1990, the Department determined the following weighted-average dumping margins for respondent companies (56 FR 7661):

Salmonor A/S | 18.39
Sea Star International A/S | 24.61
Skaarfish Mowi A/S | 15.65
Fremstad Group A/S | 21.51
Domstein and Co. | 31.81
Saga A/S | 26.55
Chr. Bjelland Seafoods A/S | 19.96
Hallvard Leroy A/S | 31.81
All others | 23.80

Since the April 12, 1991, issuance of the antidumping duty order, the Department has completed four administrative reviews on imports of the subject merchandise from Norway (56 FR 14920). In the first administrative review, covering the period October 3, 1990, through March 31, 1992, Skaarfish A/S (“Skaarfish”) and “all others” were assigned margins of 2.15 percent and 23.80 percent, respectively.²

² See Fresh and Chilled Atlantic Salmon From Norway; Final Results of Antidumping Duty Administrative Review, 58 FR 37912 (July 14, 1993), and Fresh and Chilled Atlantic Salmon From Norway; Amended Final Results of Antidumping Duty Administrative Review, 60 FR 11070 (March 1, 1995).

The second administrative review, conducted at the request of the Coalition for Fair Atlantic Salmon Trade, covered 85 exporters during the period April 1, 1992, through March 31, 1993, and the Department found that 31 of the 85 reviewed firms did not ship subject merchandise during the period of review (“POR”). Of those 31 firms, 28 had not been previously reviewed, and the Department assigned to them the original “all others” rate of 23.80 percent. The Department assigned the remaining three non-shipper respondents—Domstein Salmon A/S, Hallvard Leroy A/S and Saga A/S—their rates from the original investigation. The 52 respondent companies that failed to respond were assigned a margin of 31.91 percent.³

³ See Fresh and Chilled Atlantic Salmon From Norway; Final Results of Antidumping Duty Administrative Review, 59 FR 12242 (March 16, 1994).

In the third administrative review, covering the period April 1, 1993, through March 31, 1994, where the Department reviewed 24 exporters, the dumping margin changed for two exporters, Skaarfish and Norwegian Salmon A/S (“Norwegian Salmon”), to 2.28 percent and 13.88 percent, respectively.⁴

⁴ See Fresh and Chilled Atlantic Salmon From Norway; Final Results of Antidumping Duty Administrative Review, 61 FR 65522 (December 13, 1996); and Fresh and Chilled Atlantic Salmon From Norway; Amended Final Results of Antidumping Duty Administrative Review, 62 FR 44255 (August 20, 1995).

In the fourth administrative review, covering the period April 1, 1997, through March 31, 1998, the Department reviewed one exporter, Nornir Group A/S, to which it assigned a margin of 31.81 percent.⁵

⁵ See Fresh and Chilled Atlantic Salmon From Norway; Final Results of Antidumping Duty Administrative Review, 64 FR 17616 (April 12, 1999).

Additionally, the Department completed one new shipper review, covering Nordic Group A/L (“Nordic”), from May 1, 1995, through October 31, 1995.⁶

⁶ See Fresh and Chilled Atlantic Salmon From Norway; Final results of New Shipper Antidumping Duty Administrative Review, 62 FR 1430 (January 10, 1997).

Background

On July 1, 1999, the Department initiated a sunset review of the antidumping duty order on fresh and chilled Atlantic salmon from Norway (64 FR 35588), pursuant to section 751(c) of the Act. The Department received a Notice of Intent to Participate on behalf of domestic interested parties within the deadline (July 15, 1999) specified in section 351.218(d)(1)(i) of the Sunset Regulations. Subsequently, we received a complete substantive response to the notice of initiation on August 2, 1999, on behalf of the Coalition for Fair Atlantic Salmon Trade (“FAST”) and the following individual members of FAST: Atlantic Salmon of Maine, Connors Aquaculture, Inc., DE Salmon, Inc., Island Aquaculture Corp., Maine Aqua Foods, Inc., Maine Coast Nordic, Inc., Treats Island Fisheries, and Trumpet Island Salmon Farm, Inc. (collectively, “domestic interested parties”). As U.S. producers of the subject merchandise and a business association whose members are U.S. producers of the subject merchandise, the domestic interested parties claim interested-party status under sections 771(9)(C) and (F) of the Act. Without a substantive response from respondent interested parties, the Department, pursuant to 19 CFR 351.218(e)(1)(ii)(C), determined to conduct an expedited, 120-day review of this order.

In accordance with 751(c)(5)(C)(v) of the Act, the Department may treat a review as extraordinarily complicated if it is a review of a transition order (i.e., an order in effect on January 1, 1995). On October 18, 1999, the Department determined that the sunset review of the antidumping duty order on fresh and chilled Atlantic salmon from Norway is extraordinarily complicated, and, therefore, we extended the time limit for completion of the final results of this review until not later than January 27, 2000, in accordance with section 751(c)(5)(B) of the Act.⁷

⁷ See Extension of Time Limit for Final Results of Five-Year Reviews, 64 FR 62167 (November 16, 1999).

Although the deadline for this determination was originally January 27, 2000, due to the Federal Government shutdown on January 25 and 26, 2000, resulting from inclement weather, the timeframe for issuing this determination has been extended by one day.

Determination

In accordance with section 751(c)(1) of the Act, the Department conducted the review to determine whether revocation of the antidumping duty order would be likely to lead to continuation or recurrence of dumping. Section 752(c) of the Act provides that, in making this determination, the Department shall consider the weighted-average dumping margins determined in the investigation and subsequent administrative reviews, and the volume of imports of the subject merchandise for the period before and the period after the issuance of the antidumping duty order, and shall provide to the Commission the magnitude of the margin of dumping likely to prevail if the order is revoked.

The Department discusses below its determinations concerning continuation or recurrence of dumping and the magnitude of the margin likely to prevail were the antidumping duty order revoked. In addition, the domestic interested parties' comments on each of these issues are addressed within the respective sections below.

Continuation or Recurrence of Dumping

Drawing on the guidance provided in the legislative history accompanying the Uruguay Round Agreements Act (“URAA”), specifically the Statement of Administrative Action (“the SAA”), H.R. Doc. No. 103-316, vol. 1 (1994), the House Report, H.R. Rep. No. 103-826, pt. 1 (1994), and the Senate Report, S. Rep. No. 103-412 (1994), the Department issued its Sunset Policy Bulletin providing guidance on methodological and analytical issues, including the bases for likelihood determinations. In its Sunset Policy Bulletin, the Department indicated that determinations of likelihood will be made on an order-wide basis (see section II.A.2 of the Sunset Policy Bulletin). In addition, the Department indicated that normally it will determine that revocation of an antidumping duty order is likely to lead to continuation or recurrence of dumping where (a) dumping continued at any level above de minimis after the issuance of the order, (b) imports of the subject merchandise ceased after the issuance of the order, or (c) dumping was eliminated after the issuance of the order and import volumes for the subject merchandise declined significantly (see section II.A.3 of the Sunset Policy Bulletin).

In addition to consideration of the guidance on likelihood cited above, section 751(c)(4)(B) of the Act provides that the Department shall determine that revocation of an order is likely to lead to continuation or recurrence of dumping where a respondent interested party waives its participation in the sunset review. In the instant review, the Department did not receive a response from any respondent interested party. Pursuant to section 351.218(d)(2)(iii) of the Sunset Regulations, this constitutes a waiver of participation.

The domestic interested parties argue that revocation of the antidumping duty order would result in continued dumping by Norwegian producers/exporters and material injury to the U.S. industry (see August 2, 1999, Substantive Response of domestic interested parties at 16). With respect to declining import volumes, the domestic interested parties assert that the imposition of antidumping duties has significantly reduced the volume of U.S. imports of subject merchandise from Norway. Id. at 18. Citing U.S. Census Bureau statistics, they note that the average import volume from Norway in the three years following the imposition of the order was 95.7 percent lower than average import volumes in the three years prior to the order. Id.

As discussed in section II.A.3 of the Sunset Policy Bulletin, the SAA at 890, and the House Report at 63-64, if companies continue dumping with the discipline of an order in place, the Department may reasonably infer that dumping would continue if the discipline were removed. With the exception of Nordic, which received a 0.00 percent margin in a new shipper review (62 FR 1430; January 10, 1997), dumping margins above de minimis have existed throughout the life of the order, and continue to exist, for shipments of subject merchandise from all other Norwegian producers/exporters investigated by the Department.

Consistent with section 752(c) of the Act, the Department also considered the volume of imports before and after issuance of the 1991 order. By examining U.S. Census Bureau IM146 reports, the Department finds that, consistent with import statistics provided by domestic interested parties, imports of the subject merchandise from Norway declined significantly following the issuance of the antidumping duty order, and continue to remain at very low levels.

Based on this analysis, the Department finds that the existence of dumping margins after the issuance of the order is highly probative of the likelihood of continuation or recurrence of dumping. Given that dumping has continued at levels above de minimis after the issuance of the order, import volumes for subject merchandise have significantly declined, respondent interested parties have waived their right to participate in this review before the Department, and absent argument and evidence to the contrary, the Department determines that dumping is likely to continue if the order were revoked.

Magnitude of the Margin

In the Sunset Policy Bulletin, the Department stated that it will normally provide to the Commission the margin that was determined in the final determination in the original investigation. Further, for companies not specifically investigated or for companies that did not begin shipping until after the order was issued, the Department normally will provide a margin based on the “all others” rate from the investigation (see section II.B.1 of the Sunset Policy Bulletin). Exceptions to this policy include the use of a more recently calculated margin, where appropriate, and consideration of duty absorption determinations (see sections II.B.2 and 3 of the Sunset Policy Bulletin).

The domestic interested parties assert that the Department should provide to the Commission the margins from the original investigation for Skaarfish Mowi A/S (now Kinn Salmon A/S), Domstein, Saga, Hallvard Leroy A/S as the rates likely to prevail if the order were revoked (see August 2, 1999, Substantive Response of domestic interested parties at 23). Further, domestic interested parties identify Sea Star International, Fremstad Group, Chr. Bjelland, Salmonor A/S and Nornir Group A/S as companies from the original investigation that have chosen to increase dumping. Domestic interested parties recommend that the Department assign to these companies a margin of 31.81 percent from the 1992/93 review because these companies would be likely to dump at least to the same degree without the discipline of the order. Id. at 24. For Norwegian producers/exporters that were not parties to the original investigation, but were assigned margins in the Department's second and third administrative reviews, the domestic interested parties assert that the Department should assign to these companies the margins from those reviews. Id. at 25.

According to the Sunset Policy Bulletin, a company may choose to increase dumping in order to maintain or increase market share. As a result, increasing margins may be more representative of a company's behavior in the absence of an order (see section II.B.2 of the Sunset Policy Bulletin). The Sunset Policy Bulletin notes that the Department will normally consider market share; however, absent information on relative market share, and absent argument to the contrary, we have looked at import volumes in the present case.

As discussed in the Sunset Policy Bulletin, a more recent rate may be appropriate where a company chooses to increase dumping in order to increase or maintain market share. According to the U.S. Census Bureau IM146 reports, however, overall imports have decreased. Without company-specific information or argument related to increasing exports corresponding to increased dumping, we have no basis to determine that a more recent rate is more probative. Therefore, we will report to the Commission the company-specific and “all others” rates as contained in the Final Results of Review section of this notice, because these rates reflect the behavior of producers/exporters without the discipline of the order.

Final Results of Review

As a result of the review, the Department finds that revocation of the antidumping duty order would likely lead to continuation or recurrence of dumping at the margins listed below:

Manufacturer/exporter | Margin of dumping (percent)
Salmonar A/S | 18.39
Sea Start International | 24.61
Kinn Salmon A/S (formerly, Skaarfish) | 15.65
Fremstad Group (A/S) | 21.51
Domstein and Co | 31.81
Saga A/S | 26.55
Chr. Bjelland | 19.96
Hallvard Leroy (A/S) | 31.81
All others | 23.80

This notice serves as the only reminder to parties subject to administrative protective order (“APO”) of their responsibility concerning the disposition of proprietary information disclosed under APO in accordance with 19 CFR 351.305 of the Department's regulations. Timely notification of return/destruction of APO materials or conversion to judicial protective order is hereby requested. Failure to comply with the regulations and the terms of an APO is a sanctionable violation.

These five-year (“sunset”) reviews and notice are in accordance with sections 751(c), 752, and 777(i)(1) of the Act.

Dated: January 28, 2000.
Holly A. Kuga,
Acting Assistant Secretary for Import Administration

[FR Doc. 00-2591 Filed 2-3-00; 8:45 am]

BILLING CODE 3510-DS-P